DEPARTMENT OF HOMELAND SECURITY

Federal Emergency Management Agency

44 CFR Part 67

[Docket No. FEMA-B-7443]

Proposed Flood Elevation Determinations

AGENCY: Federal Emergency Management Agency (FEMA), Emergency Preparedness and Response Directorate, Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E. Hazard Identification Section, Emergency Preparedness and Response Directorate, Federal Emergency Management Agency, 500 C Street SW., Washington, DC 20472, (202) 646-2903.

SUPPLEMENTARY INFORMATION: FEMA proposes to make determinations of BFEs and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director of the Emergency Preparedness and Response Directorate certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

2. The tables published under the authority of § 67.4 are proposed to be amended as follows:

State | City/town/county | Source of flooding | Location | #Depth in feet above ground. *Elevation in feet. + Elevation in feet (NGVD): Existing | #Depth in feet above ground. *Elevation in feet. + Elevation in feet (NGVD): Modified
California | Oakdale (City), Stanislaus County | Stanislaus River | Approximately 4,700 feet downstream of State Highway 120 | *101 | *101
|  |  | Approximately 2 miles upstream of State Highway 120 | *113 | *114
Maps are available for inspection at the Community Development Department, 455 South Fifth Avenue, Oakdale, California 95361 or the Stanislaus County Library (Oakdale Branch) 151 South First Avenue, Oakdale, California 95361.
Send comments to The Honorable Pat Kuhn, Mayor, City of Oakdale, 280 North Third Avenue, Oakdale, California 95361.
California | Riverbank (City), Stanislaus County | Stanislaus River | Approximately 4,800 feet downstream of Riverbank Highway | None | *84
|  |  | Approximately 4,000 feet upstream of Riverbank Highway | None | *87
Maps are available for inspection at City Hall, 6707 Third Street, Riverbank, California 95367.
Send comments to The Honorable William O'Brien, Mayor, City of Riverbank, 6707 Third Street, Riverbank, California 95367.
California | Stanislaus County | Stanislaus River | Approximately 5 miles downstream of State Highway 99 | None | *45 |  |  |  | Approximately 1,600 feet upstream of Orange Blossom Road | *132 | *131
Maps are available for inspection at 1010 10th Street, Suite 6500, Modesto, California 95354.
Send comments to The Honorable Ray Simon, Chairman, Stanislaus County Board of Supervisors, 1010 10th Street, Suite 6500, Modesto, California 95354.
Montana | Fort Peck Assionboine and Sioux Tribes | Big Muddy Creek | At confluence with Missouri River | None | +1,914
|  |  | Approximately 2 miles upstream of State Route 258 bridge | None | +1,965
|  | Missouri River | Approximately 8 miles downstream of confluence with Big Muddy Creek | None | +1,910
|  |  | Approximately 2,000 feet upstream of the confluence with Milk River | None | +2,032
|  | Poplar River | At confluence with Missouri River | None | +1,955
|  |  | Approximately 1,200 feet downstream of confluence with West Fork Poplar River | None | +2,191
|  | Porcupine Creek | Approximately 3,600 feet downstream of U.S. Highway 2 | None | +2,058
|  |  | Approximately 5 miles downstream of Midway Dam at the boundary of Section 26 and 35 Township 32 North Range 40 East | None | +2,575
Maps are available for inspection at 501 Medicine Bear Road, Poplar, Montana 59255.
Send comments to The Honorable John Morales, Jr., Chairman, Fort Peck Tribal Council, P.O. Box 1027, Poplar, Montana 59255.
Washington | Chelan County | Wenatchee River | Approximately 100 feet upstream of Old Monitor Road | *717 | *717
|  |  | Approximately 1.7 miles upstream of Main Street | *1,044 | *1,046
Maps are available for inspection at the Department of Public Works, 350 Orondo Street, Wenatchee, Washington 98801.
Send comments to The Honorable Ron Walter, Chairman, Chelan County Board of Commissioners, 350 Orondo Street, Wenatchee, Washington 98801.
Washington | Cashmere (City), Chelan County | Wenatchee River | Approximately 1,300 feet downstream of Cottage Avenue | *755 | *756
|  |  | Approximately 1,550 feet upstream of Cottage Avenue | *762 | *763
Maps are available for inspection at the City Hall, 101 Woodring Street, Cashmere, Washington 98815.
Send comments to The Honorable Gordon K. Irle, Mayor, City of Cashmere, 101 Woodring Street, Cashmere, Washington 98815.

Flooding source(s) | Location of referenced elevation | Elevation in feet * (NGVD) Elevation in feet + (NAVD): Effective | Elevation in feet * (NGVD) Elevation in feet + (NAVD): Modified | Communities affected
Blaine County, and Incorporated Areas
Montana
Milk River | Approximately 3 miles upstream of confluence with Peoples Creek | None | +2,299 | Blaine County (Uninc. Areas) and
| Approximately 3.8 miles upstream of Kennedy Road | None | +2,361 | Fort Belknap Indian Reservation
Peoples Creek | At confluence with Milk River | None | +2,296 | Blaine County (Uninc. Areas) and
| Approximately 1,500 feet upstream of Road Bridge | None | +2,339 | Fort Belknap Indian Reservation
Peoples Creek Split Flow | Approximately 6,200 feet upstream of confluence with Dodson South Canal | None | +2,285 | Fort Belknap Indian Reservation
| At divergence from Peoples Creek | None | +2,321
Little Peoples Creek | Approximately 2,600 feet downstream of convergence of Little Peoples Creek Split Flow | None | +3,453 | Fort Belknap Indian Reservation
| Approximately 3,000 feet upstream of St. Pauls Mission Road | None | +3,709
Little Peoples Creek Split Flow | At confluence with Little Peoples Creek | None | +3,489 | Fort Belknap Indian
| At divergence from Little Peoples Creek | None | +3,526 | Reservation
ADDRESSES
Fort Belknap Indian Reservation
Maps are available for inspection at the Tribal Office Building, Highway 2 & Route 66, Harlem, Montana 59526.
Send comments to the Honorable Benjamin Speakthunder, Tribal Council President, Rural Route 1, Box 66, Harlem, Montana 59526.
Unincorporated Areas Blaine County
Maps are available for inspection at the County Courthouse, 400 Ohio Street, Chinook, Montana 59523.
Send comments to the Honorable Don Swenson, Chairman, Blaine County Board of Commissioners, 400 Ohio Street, Chinook, Montana 59523.

(Catalog of Federal Domestic Assistance No. 83.100, “Flood Insurance.”)

Dated: December 24, 2003.
Anthony S. Lowe,
Mitigation Division Director, Emergency Preparedness and Response Directorate.

[FR Doc. 04-165 Filed 1-5-04; 8:45 am]

BILLING CODE 6718-04-P